DEPARTMENT OF LABOR

Employment and Training Administration

[TA-W-36,568]

The Boeing Company, Commercial Aircraft Production, Long Beach, CA; Notice of Revised Determination on Reconsideration

On October 20, 1999 the Department issued a Negative Determination Regarding Eligibility to Apply for Worker Adjustment Assistance with respect to workers producing commercial aircraft at The Boeing Company, Long Beach, California. Based upon its review of information regarding subject facility production through mid-1999 and a survey of the facility's domestic customers, the Department concluded that the “contributed importantly” group eligibility requirement of Section 222(3) of the Trade Act of 1974, as amended, had not been met.

Following receipt of a request for reconsideration from United Aerospace Workers Local 148 and in recognition of an ongoing investigation on behalf of workers producing commercial aircraft at other Boeing locations, the Department determined that a comprehensive review of all production and scheduled deliveries of commercial aircraft by the Boeing Company, including aircraft produced at Long Beach, was warranted. On January 6, 2000, the Department issued a Notice of Affirmative Determination Regarding Application for Reconsideration applicable to workers and former workers of the Long Beach facility. The notice was published in the Federal Register on January 14, 2000 (65 FR 2435).

The Department's investigation revealed that employment declines have occurred at the Long Beach facility and that scheduled deliveries of aircraft produced at Long Beach have declined in the year 2000 compared to actual deliveries in 1999. The investigation further revealed that, although a decline in the total commercial aircraft market in the year 2000, as well as increased production efficiencies being experienced by the subject firm, are significant contributing factors to reduced employment levels at the subject facility, imports of commercial aircraft—as measured by scheduled deliveries to U.S. carriers by the subject firm's foreign competitor—are increasing in the year 2000 both absolutely and relative to scheduled deliveries to U.S. carriers by the subject firm. Although not necessarily the most significant factor contributing to the separations of workers, for purposes of the certification of such workers for trade adjustment assistance, this increase in domestic market share for the year 2000 by the firm's foreign competitor is an important factor contributing to worker separations.

A certification applicable to workers of McDonnell Douglas Corporation, Douglas Aircraft Company, Long Beach, California was issued on August 14, 1997 and remained in effect for two years from its date of issuance (TA-W-33, 300). That certification, which expired on August 14, 1999, applied to all employees producing aircraft at Long Beach for The Boeing Company following the acquisition of McDonnell Douglas Corporation by the Boeing Company.

Conclusion

After careful review of the additional facts obtained on reconsideration, I conclude that increased imports of articles like or directly competitive with commercial aircraft contributed importantly to the declines in sales or production and to the total or partial separation of workers of the Boeing Company, Long Beach, California. In accordance with the provisions of the Act, I make the following certification:

All workers of The Boeing Company, Long Beach, California who became totally or partially separated from employment on or after August 15, 1999 through two years from the date of certification are eligible to apply for adjustment assistance under Section 223 of the Trade Act of 1974.

Signed in Washington, D.C. this 24th day of February, 2000.
Grant D. Beale,
Program Manager, Division of Trade Adjustment Assistance.

[FR Doc. 00-6368 Filed 3-14-00; 8:45 am]

BILLING CODE 4510-30-M